DEPARTMENT OF ENERGY

Federal Energy Regulatory Commission

[Project Nos. 2516 and 2517]

Allegheny Energy Supply; Notice of Meeting

February 13, 2001.

Allegheny Energy Supply, licensee for the Dam No. 4 Project No. 2516 and the Dam No. 5 Project No. 2517, currently is consulting with state and federal agencies concerning the relicensing of those projects. In this regard, Commission staff intends to participate with representatives of the licensee, resource agencies, and concerned non-governmental entities at a meeting to be held at the Rockwood Manor, 11001 MacArthur Boulevard, Potomac, Maryland, at 1 p.m., Wednesday, February 28, 2001. All interested persons are welcome to attend.

For further information, please contact Suzie Boltz, of Allegheny Energy Supply, at (410) 628-4359. Rockwood Manor's telephone is (301) 299-5206.

Linwood A. Watson, Jr.,
Acting Secretary.

[FR Doc. 01-4070 Filed 2-16-01; 8:45 am]

BILLING CODE 6717-01-M